DEPARTMENT OF COMMERCE

International Trade Administration

[A-357-812]

Honey from Argentina: Preliminary Results and Partial Rescission of Antidumping Duty Administrative Review and Intent Not to Revoke in Part

AGENCY: Import Administration, International Trade Administration, Department of Commerce.

SUMMARY: In response to requests by interested parties, the Department of Commerce (the Department) is conducting an administrative review of the antidumping order on honey from Argentina. The review covers six firms. The period of review (POR) is December 1, 2003, through November 30, 2004.

We preliminarily determine that sales of honey from Argentina have been made below the normal value (NV) in the case of Asociacion de Cooperativas Argentinas (ACA). For Seylinco S.A. (Seylinco), we preliminary find a zero margin. In addition, we have preliminarily determined to rescind the review with respect to Nutrin S.A. (Nutrin), Radix S.A. (Radix), Compania Europea Americana S.A. (CEASA), and HoneyMax S.A. (HoneyMax) because they had no shipments of subject merchandise to the United States during the period of review. If these preliminary results are adopted in our final results of administrative review, we will instruct U.S. Customs and Border Protection (CBP) to assess antidumping duties based on the difference between the export price (EP) and NV. Interested parties are invited to comment on these preliminary results. Parties who submit argument in these proceedings are requested to submit with the argument: 1) a statement of the issues, 2) a brief summary of the argument, and 3) a table of authorities.

EFFECTIVE DATE: December 28, 2005.

FOR FURTHER INFORMATION CONTACT: Angela Strom for ACA, Brian Sheba for Seylinco, or Robert James, AD/CVD Operations, Office 7, Import Administration, International Trade Administration, U.S. Department of Commerce, 14th Street and Constitution Avenue, NW, Room 7866, Washington, DC 20230; telephone (202) 482-2704, (202) 482-0145, or (202) 482-0649, respectively.

SUPPLEMENTARY INFORMATION:

Background

On December 10, 2001, the Department published the antidumping duty order on honey from Argentina. See Notice of Antidumping Duty Order: Honey from Argentina, 66 FR 63672 (December 10, 2001). On December 1, 2004, the Department published its opportunity to request a review. See Antidumping or Countervailing Duty Order, Finding, or Suspended Investigation; Opportunity to Request Administrative Review, 69 FR 69889. On December 30, 2004, the petitioners¹ requested an administrative review of the antidumping duty order on honey from Argentina in response to the Department's notice of opportunity to request a review. Petitioners requested that the Department review entries of subject merchandise made by 24 Argentine producers/exporters. In addition, the Department received individual requests for review from four Argentine exporters, three of which were included as part of petitioners' request for review.² The Department initiated the review for all 24 companies included in petitioners' request for review plus El Mana S.A. (El Mana), a Argentine exporter of honey. See Initiation of Antidumping and Countervailing Duty Administrative Reviews and Request for Revocation in Part, 70 FR 4818 (January 31, 2005), corrected in Initiation of Antidumping and Countervailing Duty Administrative Reviews and Request for Revocation in Part, 70 FR 7143 (February 10, 2005).

¹ The petitioners are American Honey Producers Association and the Sioux Honey Association.

² The one Argentine exporter not included in petitioners' request for review was El Mana S.A. (El Mana).

On February 22, 2005, petitioners withdrew their request for review with respect to fifteen of the 24 exporters that comprised petitioners' request for administrative review. On March 3, 2005, El Mana, an exporter not included in petitioners' request for review, submitted a withdrawal of its request for administrative review. On March 24, 2005, petitioners and Nexco S.A. (Nexco) submitted a withdrawal of request for administrative review for Nexco. On March 31, 2005, petitioners submitted a withdrawal request for a further two companies. On April 15, 2005, the Department rescinded its administrative review for El Mana and eighteen of the 24 companies in petitioners' December 30, 2004, request for review. See Honey from Argentina: Notice of Partial Rescission of Antidumping Duty Administrative Review, 70 FR 19927 (April 15, 2005).

The following exporters submitted letters claiming no shipments of the subject merchandise during the POR: Nutrin on March 9, 2005; Radix on March 14, 2005; CEASA on March 14, 2005; and HoneyMax on March 16, 2005. For further discussion, see the “Partial Rescission of Review” section of this notice, below.

On February 23, 2005, the Department issued Sections A, B, and C of the antidumping questionnaire to all exporters subject to the review.³ We received responses on March 29 and April 22, 2005, for ACA and on March 24 and April 8, 2005, for Seylinco.

³ Section A of the questionnaire requests general information concerning a company's corporate structure and business practices, the merchandise under review that it sells, and the manner in which it sells that merchandise in all of its markets. Section B requests a complete listing of all home market sales, or, if the home market is not viable, of sales in the most appropriate third-country market (this section is not applicable to respondents in non-market economy cases). Section C requests a complete listing of U.S. sales.

The Department issued supplemental questionnaires for ACA on May 17, 2005, and on May 18, 2005, for Seylinco. We received responses to these supplemental questionnaires from ACA on May 31, 2005, and from Seylinco on June 1, 2005. On July 8, 2005, petitioners filed comments on ACA's questionnaire responses and on July 13, 2005, ACA filed a response to petitioners' comments. On August 2, 2005, the Department issued a second supplemental questionnaire to ACA. On August 19, 2005, ACA filed its response to the Department's second supplemental questionnaire. On August 25, 2005, the Department determined a “particular market situation” existed in Argentina during the POR. See the discussion of “Selection of Comparison Market” under “Normal Value” below. On November 10, 2005, the Department issued a third supplemental questionnaire to ACA, which ACA timely responded to on November 28, 2005.

On July 1, 2005, the Department extended the time limit for issuance of the preliminary results of the administrative review to December 20, 2005. See Honey from Argentina; Extension of Time Limit for Preliminary Results of Administrative Review, 70 FR 38102 (July 1, 2005).

Scope of the Review

The merchandise covered by this order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise covered by this order is currently classifiable under subheadings 0409.00.00, 1702.90.90, and 2106.90.99 of the Harmonized Tariff Schedule of the United States (HTSUS). Although the HTSUS subheadings are provided for convenience and customs purposes, the Department's written description of the merchandise under this order is dispositive.

Partial Rescission of Review

As noted above, Nutrin, Radix, CEASA, and HoneyMax informed the Department that they did not have shipments of subject merchandise to the United States during the POR. We have confirmed with CBP that these exporters did not have shipments of subject merchandise during the POR. Therefore, in accordance with 19 CFR 351.213(d)(3) and consistent with the Department's practice, we are preliminarily rescinding our review with respect to Nutrin, Radix, CEASA, and HoneyMax. See e.g., Frozen Concentrated Orange Juice from Brazil; Final Results and Partial Rescission of Antidumping Duty Administrative Review, 66 FR 51008, 51009 (October 5, 2001) and Certain Welded Carbon Steel Pipe and Tube from Turkey; Final Results and Partial Rescission of Antidumping Administrative Review, 63 FR 35190, 35191 (June 29, 1998).

Intent Not To Revoke In Part

Section 351.222(e) of the Department's regulations requires, inter alia, that a company requesting revocation submit the following: (1) a certification that the company has sold the subject merchandise at not less than NV in the current review period and that the company will not sell at less than NV in the future; (2) a certification that the company sold subject merchandise in commercial quantities in each of the three years forming the basis of the receipt of such a request; and (3) an agreement that the order will be reinstated if the company is subsequently found to be selling the subject merchandise at less than fair value. In determining whether to revoke an antidumping duty order in part, the Department must ascertain that the party sold merchandise at not less than normal value (i.e., zero or de minimis margins) for a period of at least three consecutive years. See 19 CFR 351.222(b)(2). See, e.g., Oil Country Tubular Goods From Mexico: Final Results of Antidumping Duty Administrative Review and Determination Not to Revoke in Part, 66 FR 15832 (March 21, 2001).

On December 27, 2004, ACA submitted a request for revocation of the antidumping duty order with the requisite certifications set forth in 19 CFR 351.222(e). ACA based its request on the absence of dumping for three consecutive review periods, that is, the first, second and current administrative reviews. The Department found zero dumping margins in both the first and second administrative reviews. See Honey from Argentina: Final Results of Antidumping Duty Administrative Review, 70 FR 19926 (April 15, 2005) and Honey from Argentina: Final Results of Antidumping Duty Administrative Review, 69 FR 30283 (May 27, 2004).

In the current administrative review, we have preliminarily determined a weighted-average margin of 2.95 percent for ACA. The margin calculated during the current review period constitutes one of the three consecutive reviews cited by ACA to support its request for revocation. Consequently, we preliminarily find that ACA is not eligible for revocation of the order under section 351.222(b) of the Department's regulations and preliminarily determine not to revoke the order with respect to ACA. Furthermore, pursuant to 19 CFR 351.222(d)(1) we have examined ACA's shipments over the past three PORs and have preliminarily determined that ACA has not shipped in commercial quantities in each of the three years forming the basis of the request for revocation. See Memorandum to Richard Weible, Director, through Robert James, Program Manager, from Angela Strom, Case Analyst: “Request by Asociation of Coopertivas Argentinas (ACA) for Revocation in the Antidumping Duty Administrative Review on Honey from Argentina,” dated December 20, 2005.

Verification

As provided in section 782(i) of the Tariff Act of 1930, as amended (the Tariff Act), we verified sales information provided by ACA, using standard verification procedures such as the examination of relevant sales and financial records. Our verification results are outlined in the public and proprietary versions of our verification reports, which are on file in the Central Records Unit (CRU) in room B-099 of the main Department building. See ACA's Sales Verification Report, dated December 13, 2005.

Product Comparison

In accordance with section 771(16) of the Tariff Act, we considered all sales of honey covered by the description in the “Scope of the Review” section of this notice, supra, which were sold in the respective third-country markets during the POR to be the foreign like product for the purpose of determining appropriate product comparisons to honey sold in the United States. We matched products based on the physical characteristics reported by ACA and Seylinco. Where there were no sales of identical merchandise in the third-country market to compare to U.S. sales, we compared U.S. sales to the next most similar foreign like product on the basis of the characteristics and reporting instructions listed in the antidumping duty questionnaire and instructions, or to constructed value (CV), as appropriate.

Level of Trade

In accordance with section 773(a)(1)(B)(i) of the Tariff Act, to the extent practicable, we determine NV based on sales in the home market at the same level of trade (LOT) as EP or the CEP. The NV LOT is that of the starting-price sales in the home market or, when NV is based on CV, that of the sales from which we derive selling, general and administrative (SG&A) expenses and profit. For CEP, it is the level of the constructed sale from the exporter to an affiliated importer after the deductions required under section 772(d) of the Tariff Act. In this review, both ACA and Seylinco claimed only EP sales.

To determine whether NV sales are at a different LOT than EP, we examine stages in the marketing process and selling functions along the chain of distribution between the producer and the unaffiliated customer. If the comparison market sales are at a different LOT and the difference affects price comparability, as manifested in a pattern of consistent price differences between the sales on which NV is based and comparison market sales at the LOT of the export transaction, we make an LOT adjustment under section 773(a)(7)(A) of the Tariff Act.

ACA reported two LOTs in the third-country market corresponding to differing channels of distribution: 1) sales to packers and 2) sales to importers. Differing channels of distribution, alone, do not qualify as separate LOTs when selling functions performed for each customer class are sufficiently similar. See 19 CFR 351.412(c)(2). We found that the selling functions ACA provided to its reported channels of distribution in the third-country and U.S. markets were virtually the same, varying only by the degree to which testing and warranty services were provided. We do not find the varying degree of testing and warranty services alone sufficient to determine the existence of different marketing stages. See Final Determination of Sales at Less than Fair Value; Honey from Argentina, 66 FR 50611 and accompanying Decision Memo at Comment 18 (October 4, 2001); Honey from Argentina: Preliminary Results of Antidumping Duty Administrative Review, 69 FR 621 (January 6, 2004). Thus, we have determined that there is only one LOT for ACA's sales to all markets. See ACA's Analysis Memorandum, dated December 20, 2005.

Seylinco reported a single LOT for all U.S. and third-country sales. Seylinco claimed that its selling activities in both markets are identical, although we note Seylinco sold to two general classes of customers in both the U.S. and its comparison market. For Seylinco, we preliminarily determine that all reported sales are made at the same LOT, and we therefore have no need to make an LOT adjustment. See Seylinco's Analysis Memorandum, dated December 20, 2005.

Transactions Investigated

Section 351.401(i) of the Department's regulations states that the Department normally will use date of invoice, as recorded in the exporter's or producer's records kept in the ordinary course of business, as the date of sale, but may use a date other than the date of invoice if it better reflects the date on which material terms of sale are established. For ACA, the Department, consistent with its practice, used the reported shipment date as the date of sale for both its third-country and U.S. markets since shipment occurred prior to invoice date. See Notice of Final Determinations of Sales at Less than Fair Value: Certain Durum Wheat and Hard Red Spring Wheat from Canada, 68 FR 52741 (September 5, 2003), and accompanying Decision Memo at Comment 3. For Seylinco, the Department used the invoice date as the date of sale for both its comparison and U.S. market sales.

Export Price and Constructed Export Price

Section 772(a) of the Tariff Act defines EP as “the price at which the subject merchandise is first sold (or agreed to be sold) before the date of importation by the producer or exporter of subject merchandise outside of the United States to an unaffiliated purchaser in the United States or to an unaffiliated purchaser for exportation to the United States. . . .,” as adjusted under section 772(c). Section 772(b) of the Tariff Act defines CEP as “the price at which the subject merchandise is first sold (or agreed to be sold) in the United States before or after the date of importation by or for the account of the producer or exporter of such merchandise or by a seller affiliated with the producer or exporter, to a purchaser not affiliated with the producer or exporter. . . .,” as adjusted under sections 772(c) and (d). ACA and Seylinco have classified their U.S. sales as EP because all of their sales were made before the date of importation directly to unaffiliated purchasers in the U.S. market. For purposes of these preliminary results, we have accepted these classifications.

Normal Value

1. Selection of Comparison Market

In accordance with section 773(a)(1)(C) of the Tariff Act, to determine whether there was a sufficient volume of sales in the home market to serve as a viable basis for calculating NV (i.e., the aggregate volume of home market sales of the foreign like product is greater than or equal to five percent of the aggregate volume of U.S. sales), we compare each company's aggregate volume of home market sales of the foreign like product to its aggregate volume of U.S. sales of subject merchandise. Because Seylinco did not have home market sales, we preliminarily find that Seylinco's home market did not provide a viable basis for calculating NV. ACA, however, did have home market sales in excess of five percent of the aggregate volume of U.S. sales.

Section 773(a)(1)(C)(iii) of the Tariff Act provides that the Department may determine that home market sales are inappropriate as a basis for determining NV if a particular market situation would not permit a proper comparison with EP or CEP. During the first and second reviews of this order, the Department found a particular market situation rendered the Argentine market inappropriate for the calculation of NV because of, among other reasons, the export-oriented nature of the Argentine honey industry.⁴ In the first supplemental questionnaire dated May 17, 2005, the Department asked ACA to provide further information in order to evaluate the market situation in Argentina with respect to honey, and on May 31, 2005, ACA responded to the Department's request. ACA states that the circumstances in this review are the same as in the first two reviews and that the Department should find a “particular market situation” in Argentina.

⁴ See Honey from Argentina: Preliminary Results of Anti-Dumping Duty Administrative Review, 69 FR 621 (January 6, 2004); Honey From Argentina: Final Results of Antidumping Duty Administrative Review, 69 FR 30283 (May 27, 2004); Honey from Argentina: Preliminary Results of Anti-Dumping Duty Administrative Review, 69 FR 77195 (December 27, 2004); and Honey From Argentina: Final Results of Antidumping Duty Administrative Review, 70 FR 19926 (April 15, 2005).

On August 25, 2005, the Department determined that a particular market situation does, in fact, exist with respect to ACA's sales of honey in Argentina, rendering the Argentine market inappropriate for purposes of determining NV. See Decision Memorandum “Analysis of Particular Market Place Situation” from Angela Strom through Robert James to Richard Weible, dated August 25, 2005.

When sales in the home market are not suitable to serve as the basis for NV, section 773(a)(1)(B)(ii) of the Tariff Act provides that sales to a third-country market may be utilized if (i) the prices in such market are representative; (ii) the aggregate quantity of the foreign like product sold by the producer or exporter in the third-country market is five percent or more of the aggregate quantity of the subject merchandise sold in or to the United States; and (iii) the Department does not determine that a particular market situation in the third-country market prevents a proper comparison with the U.S. price. ACA reported France as its largest third-country market during the POR, in terms of volume of sales (and the aggregate quantity of such sales is five percent or more of sales to the United States). Seylinco reported Germany as its largest third-country market during the POR, in terms of volume of sales (and the aggregate quantity of such sales is five percent or more of sales to the United States). See, e.g., Notice of Preliminary Results of Antidumping Duty Administrative Review, Preliminary Determination To Revoke the Order in Part, and Partial Rescission of Antidumping Duty Administrative Review: Fresh Atlantic Salmon From Chile, 67 FR 51186, 51186 (August 7, 2002) (selecting the largest third-country market as the basis for NV). The Department preliminarily determines that the prices in France and Germany are representative and no particular market situation exists that would prevent a proper comparison to EP. As a result, for ACA, NV is based on sales to France and for Seylinco NV is based on sales to Germany.

In summary, therefore, NV for all companies is based on third-country market sales to unaffiliated purchasers made in commercial quantities and in the ordinary course of trade. For NV, we used the prices at which the foreign like product was first sold for consumption in the usual commercial quantities, in the ordinary course of trade, and, to the extent possible, at the same LOT as the EP. We calculated NV as noted in the “Price-to-Price Comparisons” section of this notice.

2. Cost of Production

The Department disregarded certain sales made by ACA to its comparison market at prices below the cost of producing the subject merchandise during the investigation. See Notice of Final Determination of Sales at Less Than Fair Value; Honey from Argentina, 66 FR 50611 (October 4, 2001) and Notice of Amended Final Determination of Sales at Less Than Fair Value; Honey from Argentina, 66 FR 58434 (Nov 21, 2001) (Final Determination). However, because we did not find sales below cost in the most recently completed segment of this proceeding and because petitioners made no allegation of sales below cost in the context of this review, the Department determined there were not reasonable grounds to believe or suspect that ACA made sales in the comparison market at prices below the cost of producing the merchandise in this review. See section 773(b)(2)(A) of the Tariff Act. As a result, on May 17, 2005, we informed ACA that ACA would not be required to submit cost information.

Price-to-Price Comparisons

ACA

We based NV on the third-country market prices to unaffiliated purchasers. In accordance with section 773(a)(6)(B) of the Tariff Act, we made adjustments, where applicable, for movement expenses. In accordance with section 773(a)(6)(C) of the Tariff Act, we made circumstance-of-sale adjustments for credit and other direct selling expenses, where appropriate. We note that for certain claimed direct expenses in the third-country market, the Department has re-classified them as indirect for the reasons outlined in the accompanying Analysis Memorandum.

As in previous segments of this proceeding, ACA originally reported warranty expenses on a customer-specific basis. ACA allocated warranty claims corresponding to POR sales to total tons of honey sold to a particular customer during the POR. In response to our first request for information, ACA also submitted transaction-specific warranty expenses. See Supplemental Questionnaire Response dated May 31, 2005. In response to our most recent request for information, ACA reported its historical experience for warranties by market. See Supplemental Questionnaire Response dated November 28, 2005.

Notwithstanding ACA's reporting of warranty expenses both on a customer-specific and transaction-specific basis, the Department finds that these allocation methodologies fail to reflect the nature and terms of warranty costs as incurred by ACA, i.e., at the time of sale, warranty claims for specific customers or transactions cannot be known or quantified and the terms for such claims did not vary from customer to customer. Indeed, in the less than fair value investigation involving honey from Argentina, the Department recalculated ACA's warranty expense over total sales to the market in question. See Notice of Preliminary Determination of Sales at Less Than Fair Value: Honey from Argentina, 66 FR 24108 (May 11, 2001), unchanged in Notice of Final Determination of Sales at Less than Fair Value; Honey from Argentina, 66 FR 50611 (October 4, 2001). In the second administrative review, the Department accepted ACA's reported warranty expenses on a customer-specific basis. See ACA's Sales Verification Report, dated November 26, 2004,and ACA's Analysis Memorandum, dated December 20, 2004. However, based upon our review of the facts in this case, this is not the appropriate methodology.

If the warranty terms offered by a respondent at the time of sale vary significantly from customer to customer, a customer-specific allocation of warranty expenses may be appropriate. However, as in this case, if the warranty terms offered by the respondent at the time of sale are not significantly different from customer to customer, an allocation of warranty expenses over total sales or sales to the market in question is more reflective of the nature of the expense and the respondent's expectation that its pricing behavior will allow it to recoup these costs over time. Furthermore, because warranty expenses are not incurred until after a warranty claim has been received from a customer, can vary greatly from year to year, and can occur months or years after the relevant date of sale, the Department often bases warranty expenses on historical data rather than the expenses incurred during a single POR. (See, e.g., Large Newspaper Printing Presses and Components Thereof, Whether Assembled or Unassembled, From Germany: Final Results of Antidumping Duty Administrative Review, 66 FR 11557 (February 26, 2001) and accompanying Decision Memorandum at Comment 6.)

Based on the foregoing considerations, we have re-calculated ACA's reported warranty expenses. In order to capture warranty expenses reflective of ACA's historical experience for the market in question, we used warranty expenditures incurred in that market in the three most recently completed fiscal years⁵ and allocated those expenses over ACA's total sales to that market for the same three-year period. The resulting ratio which we applied to the gross unit price for these Preliminary Results represents a three year historical average of ACA's warranty expenses with respect to the market in question. In addition, we revised certain warranty expenses for the reasons outlined in the accompanying Analysis Memorandum. See ACA's Analysis Memorandum, dated December 20, 2005.

⁵ The three most recent fiscal years were chosen as the calculated time period because this is in accord with the Department's standard questionnaire. Furthermore, the three-year average is not inconsistent with ACA's historical warranty claims for the market in question. See Supplemental Questionnaire Response dated November 28, 2005.

Seylinco

We based NV on the third-country prices to unaffiliated purchasers. We made adjustments, where applicable, for movement expenses in accordance with section 773(a)(6)(B) of the Tariff Act. Where appropriate, we made circumstance-of-sale adjustments for credit pursuant to section 773(a)(6)(C) of the Tariff Act. We also made adjustments, where applicable, for other direct selling expenses, in accordance with section 773(a)(6)(C) of the Tariff Act. See Seylinco's Analysis Memorandum, dated December 20, 2005.

Currency Conversion

The Department's preferred source for daily exchange rates is the Federal Reserve Bank. See Preliminary Results of Antidumping Duty Administrative Review: Stainless Steel Sheet and Strip in Coils from France, 68 FR 47049, 47055 (August 7, 2003). However, the Federal Reserve Bank does not track or publish exchange rates for the Argentine peso. Therefore, we made currency conversions based on the daily exchange rates from Factiva, a Dow Jones & Reuters Retrieval Service. Factiva publishes exchange rates for Monday through Friday only. We used the rate of exchange on the most recent Friday for conversion dates involving Saturday through Sunday where necessary.

Preliminary Results of Review

As a result of our review, we preliminarily determine the following weighted-average dumping margins exist for the period December 1, 2003, through November 30, 2004:

Manufacturer / Exporter | Weighted-Average Margin (percentage)
Asociacion de Cooperativas Argentinas | 2.95
Seylinco S.A. | 0.00
All Others | 30.24

The Department will disclose calculations performed within five days of the date of publication of this notice in accordance with 19 CFR 351.224(b). An interested party may request a hearing within thirty days of publication. See 19 CFR 351.310(c). Any hearing, if requested, will be held 37 days after the date of publication, or the first business day thereafter, unless the Department alters the date pursuant to 19 CFR 351.310(d). Interested parties may submit case briefs or written comments no later than 30 days after the date of publication of these preliminary results of review. Rebuttal briefs and rebuttals to written comments, limited to issues raised in the case briefs and comments, may be filed no later than 35 days after the date of publication of this notice. Parties who submit arguments in these proceedings are requested to submit with the argument: (1) a statement of the issues, (2) a brief summary of the argument, and (3) a table of authorities. Further, we would appreciate it if parties submitting case briefs, rebuttal briefs, and written comments would provide the Department with an additional copy of the public version of any such argument on diskette. The Department will issue final results of this administrative review, including the results of our analysis of the issues in any such case briefs, rebuttal briefs, and written comments or at a hearing, within 120 days of publication of these preliminary results.

Assessment

The Department shall determine, and CBP shall assess, antidumping duties on all appropriate entries. In accordance with 19 CFR 351.212(b)(1), we calculated importer-specific ad valorem assessment rates for the merchandise based on the ratio of the total amount of antidumping duties calculated for the examined sales made during the POR to the total customs value of the sales used to calculate those duties. This rate will be assessed uniformly on all entries of that particular importer made during the POR. The Department will issue appropriate appraisement instructions directly to CBP upon completion of the review.

Cash Deposit Requirements

The following deposit requirements will be effective upon completion of the final results of this administrative review for all shipments of honey from Argentina entered, or withdrawn from warehouse, for consumption on or after the publication date of the final results of this administrative review, as provided by section 751(a)(1) of the Tariff Act:

(1) the cash deposit rates for all companies reviewed will be the rates established in the final results of review;

(2) for any previously reviewed or investigated company not listed above, the cash deposit rate will continue to be the company-specific rate published in the most recent period;

(3) if the exporter is not a firm covered in this review or the LTFV investigation, but the manufacturer is, the cash deposit rate will be the rate established for the most recent period for the manufacturer of the merchandise; and

(4) if neither the exporter nor the manufacturer is a firm covered in this or any previous review conducted by the Department, the cash deposit rate will be the “all others” rate from the investigation (30.24 percent). See Notice of Final Determination of Sales at Less Than Fair Value; Honey From Argentina, 66 FR 50611 (Oct. 4, 2001), Notice of Amended Final Determination of Sales at Less Than Fair Value; Honey From Argentina, 66 FR 58434 (Nov. 21, 2001), and Notice of Antidumping Duty Order; Honey From Argentina, 66 FR 63672 (Dec. 10, 2001).

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing this notice in accordance with sections 751(a)(1) and 777(i)(1) of the Tariff Act.

Dated: December 20, 2005.
Stephen J. Claeys,
Acting Assistant Secretary for Import Administration.

[FR Doc. E5-7981 Filed 12-27-05; 8:45 am]

BILLING CODE 3510-DS-S